DEPARTMENT OF THE INTERIOR

Fish and Wildlife Service

[FWS-R8-R-2008-N0293; 80230-1265-0000-S3]

Humboldt Bay National Wildlife Refuge Complex, Humboldt and Del Norte Counties, CA

AGENCY: Fish and Wildlife Service, Interior.

ACTION: Notice of availability; request for comments: Draft comprehensive conservation plan/environmental assessment.

SUMMARY: We, the U.S. Fish and Wildlife Service (Service), announce the availability of the Draft Comprehensive Conservation Plan/Environmental Assessment (CCP/EA) for Humboldt Bay National Wildlife Refuge Complex for public review and comment. The Humboldt Bay National Wildlife Refuge Complex is composed of Humboldt Bay National Wildlife Refuge (NWR) and Castle Rock NWR. The CCP, prepared under the National Wildlife Refuge System Improvement Act of 1997, and in accordance with the National Environmental Policy Act of 1969, describes how the Service will manage the Refuges for the next 15 years. Draft compatibility determinations for several public uses are also available for review and public comment in the Draft CCP/EA.

DATES: Written comments must be received at the address below on or before March 23, 2009.

ADDRESSES: For more information on obtaining documents and submitting comments, see “Review and Comment” under SUPPLEMENTARY INFORMATION. For public meeting location see “Public Meetings” under SUPPLEMENTARY INFORMATION.

FOR FURTHER INFORMATION CONTACT: Eric T. Nelson, Project Leader, U.S. Fish and Wildlife Service, P.O. Box 576, Loleta, CA 95551-9633, phone (707) 733-5406 or Sandy Osborn, Refuge Planner, U.S. Fish and Wildlife Service, 2800 Cottage Way, W-1832, Sacramento, CA 95825, phone (916) 414-6503.

SUPPLEMENTARY INFORMATION: The National Wildlife Refuge System Improvement Act of 1997 (16 U.S.C. 668dd-668ee), which amended the National Wildlife Refuge System Administration Act of 1966, requires us to develop a comprehensive conservation plan (CCP) for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

The CCP for the Humboldt Bay National Wildlife Refuge Complex was initiated in January 2007. At that time and throughout the process, public comments were requested, considered, and incorporated in numerous ways. Public outreach has included public scoping meetings, planning updates, a CCP Web page, and Federal Register notices. We announced the notice of intent to prepare a Comprehensive Conservation Plan and Environmental Assessment in the Federal Register (72 FR 4020, January 29, 2007).

Background

Humboldt Bay NWR is located on Humboldt Bay on the northwest California coast near Eureka and Arcata. In 1971, the Humboldt Bay NWR was established to conserve coastal habitats for a great diversity of animals and plants, especially migratory birds. In later years the Service added the Lanphere and Ma-le'l Dunes Units, to help conserve the most pristine remaining dune ecosystem on the west coast of North America. The Refuge Complex also includes Castle Rock NWR, a 14-acre island located in Del Norte County, less than a mile northwest of Crescent City. This refuge hosts one of the largest and most diverse colonies of breeding seabirds on the Pacific coast and provides a roost for approximately 20,000 Aleutian cackling geese during their migration.

Alternatives

The Draft CCP/EA identifies and evaluates three alternatives for managing Humboldt Bay and Castle Rock Refuges for the next 15 years. One alternative for each Refuge has been identified as the preferred alternative. The preferred alternatives were identified based on the analysis presented in the Draft CCP/EA, which may be modified following the completion of the public comment period based on comments received from other agencies, tribal governments, non-governmental organizations, or individuals.

Alternatives for the Humboldt Bay NWR

Under Alternative A (the “No Action” Alternative), the Service would continue the current management of Humboldt Bay NWR at approximately the same level it has in the recent past. There would be continued work on the most substantive refuge issues including: Maintenance of facilities and existing programs, Salmon Creek and other habitat restoration, control of invasives (especially Spartina, or non-native cordgrass), habitat management for salmonids, Aleutian cackling geese management, and public use initiatives.

Under Alternative B, the Service would make a number of improvements to Humboldt Bay NWR management including substantial native habitat restoration, moderate enhancement of Aleutian cackling goose habitat, substantial restoration of Salmon Creek, substantial enhancements of other wetland and dune habitats, an increase in visitor services, a slight reduction in hunt opportunities, and proactive cultural resource management.

Alternative C, the preferred alternative, would include all of the features of Alternative B plus more native habitat restoration, more restoration of Salmon Creek, more enhancements of other wetland and dune habitats; and a slight increase in hunt opportunities compared to Alternative A.

Alternatives for the Castle Rock NWR

Under Alternative A (the “No Action” Alternative), the Service would continue to manage Castle Rock NWR as it has in the recent past.

Under Alternative B, the Service would make a number of changes to Castle Rock NWR management including: Restricting any monitoring and research to off-island; increasing educational outreach and interpretation; and increasing coordination with tribal entities.

Under Alternative C, the preferred alternative, the Service would improve management of Castle Rock NWR by: Expanding surveys for flora and fauna; improving research with remote controlled recording devices; increasing educational outreach and interpretation in collaboration with local entities; increasing coordination with tribal entities; and recommending Castle Rock NWR for wilderness designation and completing the associated legislative environmental impact statement.

Public Meetings

The locations, dates, and times of public meetings will be listed in a planning update distributed to the project mailing list and posted on the Refuge Complex Web site at http://www.fws.gov/humboldtbay/ccp.html.

Review and Comment

Copies of the Draft CCP/EA may be obtained by writing to the U.S. Fish and Wildlife Service, Attn: Sandy Osborn, Refuge Planner, 2800 Cottage Way, W-1832, Sacramento, CA 95825-1846. Copies of the Draft CCP/EA may be viewed at this address or at the Humboldt Bay National Wildlife Refuge Complex, 1020 Ranch Road, Loleta, CA 95551-9633. The Draft CCP/EA will also be available for viewing and downloading online at http://www.fws.gov/humboldtbay/ccp.html. Printed documents will also be available for review in the Government Collection sections at the following libraries: Arcata Library, 500 7th Street, Arcata, CA 95521; College of the Redwoods Library, 7351 Tompkins Hill Road, Eureka, CA 95501; Del Norte County Library, 190 Price Mall, Crescent City, CA 95331; Fortuna Library, 753 14th Street, Fortuna, CA 95540; Humboldt County Library, 1313 3rd Street, Eureka, CA 95501; Humboldt State University Library, 1 Harpst Street, Arcata, CA 95521; and Conservation Library, USFWS-NCTC, 698 Conservation Way, Shepherdstown, WV 25443.

Comments on the Draft CCP/EA should be addressed to: Sandy Osborn, Refuge Planner, U.S. Fish and Wildlife Service, 2800 Cottage Way, W-1832, Sacramento, CA 95825-1846; or via electronic mail, sandy_osborn@fws.gov. Comments may also be faxed to (916) 414-6497.

At the end of the review and comment period for this Draft CCP/EA, we will analyze comments and address them in our Final CCP. Before including your address, phone number, e-mail address, or other personal identifying information in your comment, you should be aware that your entire comment—including your personal identifying information—may be made publicly available at any time. While you can ask us in your comment to withhold your personal identifying information from public review, we cannot guarantee that we will be able to do so.

Dated: October 31, 2008.
Toni M. Deery,
Acting Regional Director, California and Nevada Region, Sacramento, California.

Editorial Note: This document was received in the Office of the Federal Register on Tuesday, January 27, 2009.

[FR Doc. E9-2009 Filed 2-5-09; 8:45 am]

BILLING CODE 4310-55-P